DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held Tuesday, Wednesday, and Thursday, September 27-29, 2016. The meeting on Tuesday will be conducted in Conference Room 730 at the Department of Veterans Affairs (VA) Central Office, 810 Vermont Avenue NW., Washington, DC 20420. The meeting on Thursday will be conducted in Conference Room 428 at the Readjustment Counseling Service (RCS) Headquarters Offices located at 1717 H Street NW., Washington DC 20006. The agenda for these two days will begin at 8:00 a.m. and end at 4:30 p.m. The meeting on both days is open to the public.

The meeting on Wednesday will be conducted at two VA Vet Centers located in Alexandria, VA and Prince George County, MD. The latter meetings will include interviews with Veteran consumers and will be closed to the public. Portions of these visits are closed to the public in accordance with 5 U.S.C. 552b(c)(6). Exemption 6 permits to Committee to close those portions of a meeting that are likely to disclose information of a personal nature where disclosure would constitute a clearly unwarranted invasion of personal privacy. During the closed sessions the Committee will discuss VA beneficiary and patient information in which there is a clear unwarranted invasion of the Veteran or beneficiary privacy.

The purpose of the Committee is to review the post-war readjustment needs of combat Veterans and to evaluate the availability and effectiveness of VA programs to meet Veterans' needs.

On September 27, the Committee will be briefed on current directions and priorities for serving the Nation's war Veterans. The Committee will also be briefed by the Principal Deputy Under Secretary for Health on new directions of care in Veterans Health Administration (VHA) and the coordination of VA healthcare with readjustment counseling.

The September 27 will also include briefings on the current activities of the Readjustment Counseling Service (RCS) Vet Centers to include the full scope of outreach and readjustment counseling services provided to combat Veterans, Service members and families. The briefing will focus on the coordination of Vet Center services with VHA health care, mental health, and social work services. The Committee will also receive briefings from VHA mental health program officials focusing on the key role of mental health services for the psychological, social, and economic readjustment of combat Veterans.

On September 28, Committee members will conduct onsite visits at two Vet Centers to meet with groups of Veteran consumers and with VHA service providers from the Vet Centers and the support VA medical facilities.

On September 29 the Committee will receive briefings from additional VHA program officials representing key programs of specific value for the post-war readjustment of Veterans, Service members and family members. The agenda for September 29 will conclude with a Committee strategic planning session for developing the observations and conclusions for the annual Committee Report.

No time will be allocated at this meeting for receiving oral presentations from the public. However, members of the public may direct written questions or submit prepared statements for review by the Committee before the meeting to Mr. Charles M. Flora, L.C.S.W-C., Designated Federal Officer, Readjustment Counseling Service, Department of Veterans Affairs, 810 Vermont Avenue NW., Washington, DC 20420. Because the meeting will be in a Government building, please provide valid photo identification for check-in. Please allow 30 minutes before the meeting for the check-in process. If you plan to attend or have questions concerning the meeting, please contact Mr. Flora at (202) 461-6525 or by email at charles.flora@va.gov.

Dated: September 8, 2016.
LaTonya L. Small,
Advisory Committee Management Office.

[FR Doc. 2016-21926 Filed 9-12-16; 8:45 am]

BILLING CODE P